DEPARTMENT OF JUSTICE

Notice of Lodging of Consent Decree Under the Clean Air Act

Under 28 CFR 50.7, notice is hereby given that on August 17, 2011, a Consent Decree in United States of America v. Erie Coke Corporation, Civil Action No. 1:09-cv-00240-SJM was lodged with the United States District Court for the Western District of Pennsylvania.

In this action, the United States sought injunctive relief and penalties against Erie Coke Corporation (“Erie Coke”) pursuant to Section 113(b) of the Clean Air Act, 42 U.S.C. 7413(b), for alleged Clean Air Act violations and violations of the Pennsylvania State Implementation Plan at a coke manufacturing facility in Erie, Pennsylvania owned by Erie Coke. Originally, the complaint was filed jointly with the Commonwealth of Pennsylvania Department of Environmental Protection, but the Commonwealth settled separately with Erie Coke and a consent judgment was entered in the Commonwealth Court of Pennsylvania (the “State Agreement”).

Under the terms of the settlement with the United States, the settling defendant will: (1) Pay a $300,000 civil penalty to the United States; and (2) apply interim measures to control visible air emissions until the Erie Coke facility comes into compliance with the State Agreement.

The Department of Justice will receive comments relating to the Consent Decree for a period of thirty (30) days from the date of this publication. Comments should be addressed to the Assistant Attorney General, Environment and Natural Resources Division, P.O. Box 7611, U.S. Department of Justice, Washington, DC 20044-7611, or submitted via e-mail to pubcomment-ees.enrd@usdoj.gov, and should refer to United States v. Erie Coke Corporation, D.J. Ref. No. 90-5-2-1-09614.

The Consent Decree may be examined at the Offices of the U.S. Environmental Protection Agency, Region 3, 1650 Arch Street, Philadelphia, Pennsylvania 19103. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. In requesting a copy from the Consent Decree Library, please enclose a check in the amount of $6.50 (25 cents per page reproduction cost) payable to the U.S. Treasury.

Robert Brook,
Assistant Section Chief, Environmental Enforcement Section, Environment and Natural Resources Division.

[FR Doc. 2011-21462 Filed 8-22-11; 8:45 am]

BILLING CODE 4410-15-P